ENVIRONMENTAL PROTECTION AGENCY

40 CFR Part 98

[EPA-HQ-OAR-2010-0929 and EPA-HQ-OAR-2010-0964; FRL-9252-4]

Extension of Comment Period on Change to the Reporting Date for Certain Data Elements Required Under the Mandatory Reporting of Greenhouse Gases Rule; and Public Hearing and Extension of Comment Period on Call for Information on Inputs to Emission Equations Under the Mandatory Reporting of Greenhouse Gases Rule

AGENCY: Environmental Protection Agency (EPA).

ACTION: Public hearing notice and extension of public comment periods.

SUMMARY: On December 27, 2010, EPA concurrently published a proposed Change to the Reporting Date for Certain Data Elements Required Under the Mandatory Reporting of Greenhouse Gases Rule and a Call for Information on Inputs to Emission Equations Under the Mandatory Reporting of Greenhouse Gases Rule. In this action, EPA is providing notice of a public hearing on the Call for Information, to be held on February 3, 2011, and extending the comment period for both actions until March 7, 2011.

DATES: Comments. This action extends the comment period for the proposed Change to the Reporting Date for Certain Data Elements Required Under the Mandatory Reporting of Greenhouse Gases Rule (75 FR 81350). Comments must be received on or before March 7, 2011. This action also extends the comment period for the Call for Information on Inputs to Emission Equations Under the Mandatory Reporting of Greenhouse Gases Rule (75 FR 81366). Comments must be received on or before March 7, 2011.

Public Hearing. EPA will hold a hearing on the Call for Information on Inputs to Emission Equations Under the Mandatory Reporting of Greenhouse Gases Rule (75 FR 81366). The hearing will be conducted on February 3, 2011, in the Washington, DC area. EPA will provide further information about both hearings on its Web page: http://www.epa.gov/climatechange/emissions/ghgrulemaking.html.

ADDRESSES:

Proposed Change to the Reporting Date for Certain Data Elements Required Under the Mandatory Reporting of Greenhouse Gases Rule

Submit your comments, identified by Docket ID No. EPA-HQ-OAR-2010-0929, by one of the following methods:

Federal eRulemaking Portal: http://www.regulations.gov. Follow the online instructions for submitting comments.

E-mail: GHGReportingCBI@epa.gov. Include Docket ID No. EPA-HQ-OAR-2010-0929 (and/or RIN number) in the subject line of the message.

Fax: (202) 566-1741.

Mail: Environmental Protection Agency, EPA Docket Center (EPA/DC), Mailcode 2822T, Attention Docket ID No. EPA-HQ-OAR-2010-0929, 1200 Pennsylvania Avenue, NW., Washington, DC 20460.

Hand/Courier Delivery: EPA Docket Center, Public Reading Room, EPA West Building, Room 3334, 1301 Constitution Avenue, NW., Washington, DC 20004. Such deliveries are only accepted during the Docket's normal hours of operation, and special arrangements should be made for deliveries of boxed information.

Instructions: Direct your comments to Docket ID No. EPA-HQ-OAR-2010-0929. EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Docket, EPA/DC, EPA West, Room B102, 1301 Constitution Ave., NW., Washington, DC. This Docket Facility is open from 8:30 a.m. to 4:30 p.m., Monday through Friday, excluding legal holidays. The telephone number for the Public Reading Room is (202) 566-1744, and the telephone number for the Air Docket is (202) 566-1742.

Call for Information on Inputs to Emission Equations Under the Mandatory Reporting of Greenhouse Gases Rule

Submit your comments, identified by Docket ID No. EPA-HQ-OAR-2010-0964, by one of the following methods:

Federal eRulemaking Portal: http://www.regulations.gov. Follow the online instructions for submitting comments.

E-mail: GHGReportingCBI@epa.gov. Include Docket ID No. EPA-HQ-OAR-2010-0964 (and/or RIN number) in the subject line of the message.

Fax: (202) 566-1741.

Mail: Environmental Protection Agency, EPA Docket Center (EPA/DC), Mailcode 2822T, Attention Docket ID No. EPA-HQ-OAR-2010-0964, 1200 Pennsylvania Avenue, NW., Washington, DC 20460.

Hand/Courier Delivery: EPA Docket Center, Public Reading Room, EPA West Building, Room 3334, 1301 Constitution Avenue, NW., Washington, DC 20004. Such deliveries are only accepted during the Docket's normal hours of operation, and special arrangements should be made for deliveries of boxed information.

Instructions: Direct your comments to Docket ID No. EPA-HQ-OAR-2010-0964. EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Docket, EPA/DC, EPA West, Room B102, 1301 Constitution Ave., NW., Washington, DC. This Docket Facility is open from 8:30 a.m. to 4:30 p.m., Monday through Friday, excluding legal holidays. The telephone number for the Public Reading Room is (202) 566-1744, and the telephone number for the Air Docket is (202) 566-1742.

FOR FURTHER GENERAL INFORMATION CONTACT: Carole Cook, Climate Change Division, Office of Atmospheric Programs (MC-6207J), Environmental Protection Agency, 1200 Pennsylvania Ave., NW., Washington, DC 20460; telephone number: (202) 343-9263; fax number: (202) 343-2342; e-mail address: GHGMRR@epa.gov. For technical information, contact the Greenhouse Gas Reporting Rule Hotline at: http://www.epa.gov/climatechange/emissions/ghgrule_contactus.htm. Alternatively, contact Carole Cook at 202-343-9263.

SUPPLEMENTARY INFORMATION: Additional Information on Submitting Comments: To expedite review of your comments by Agency staff, you are encouraged to send a separate copy of your comments, in addition to the copy you submit to the official docket, to Carole Cook, U.S. EPA, Office of Atmospheric Programs, Climate Change Division, Mail Code 6207-J, Washington, DC, 20460, telephone (202) 343-9263, e-mail GHGReportingCBI@epa.gov.

Background on Today's Action:

In this action, EPA is providing notice of a public hearing on the Call for Information on Inputs to Emission Equations Under the Mandatory Reporting of Greenhouse Gases Rule (hereinafter referred to as the “Call for Information,” 75 FR 81366, December 27, 2010). In this action, EPA is also extending the public comment periods on the Call for Information and another action published on December 27, 2010, the proposed Change to the Reporting Date for Certain Data Elements Required Under the Mandatory Reporting of Greenhouse Gases Rule (hereinafter referred to as the “Proposed Deferral,” 75 FR 81350).¹

¹ EPA also concurrently published an Interim Final Regulation Deferring the Reporting Date for Certain Data Elements Required Under the Mandatory Reporting of Greenhouse Gases Rule (75 FR 81338), which is not affected by today's action.

EPA received a request for a public hearing on the Call for information. Although EPA was not required to and did not provide for an opportunity to request a public hearing in the Call for information, EPA has decided to grant this request to accommodate the public in providing information and comment solicited in that notice. In addition, EPA is extending the public comment period for the Call for Information. The current deadline for submitting comment and information solicited in the Call for Information is February 25, 2011. EPA is extending this deadline to March 7, 2011 to provide the public additional time to submit comment and other relevant information, especially after the public hearing.

In addition, EPA is extending the public comment period for the Proposed Deferral. The current deadline for submitting public comment on that proposed rule is January 26, 2011. EPA is extending that deadline to March 7, 2011. This extension will provide the public additional time for public participation.

List of Subjects 40 CFR Part 98

Environmental protection, Administrative practice and procedure, Greenhouse gases, Reporting and recordkeeping requirements.

Dated: January 12, 2011.
Elizabeth Craig,
Acting Director, Office of Atmospheric Programs.

[FR Doc. 2011-996 Filed 1-18-11; 8:45 am]

BILLING CODE 6560-50-P